DEPARTMENT OF COMMERCE

International Trade Administration

[A-533-813]

Certain Preserved Mushrooms from India: Notice of Extension of Time Limit for Final Results of Antidumping Duty Administrative Review

AGENCY: Import Administration, International Trade Administration, United States Department of Commerce.

EFFECTIVE DATE: May 5, 2004.

FOR FURTHER INFORMATION CONTACT: David J. Goldberger, Kate Johnson, or Tinna Beldin at (202) 482-4136, (202) 482-4929, or (202) 482-1655, respectively, Office of AD/CVD Enforcement, Import Administration, International Trade Administration, U.S. Department of Commerce, 14th Street and Constitution Avenue, NW., Washington, DC 20230.

Extension of Time Limit for the Final Results of Administrative Review

The Department of Commerce (“the Department”) published the preliminary results of the administrative review of the antidumping duty order on certain preserved mushrooms from India on March 8, 2004 (69 FR 0659). Pursuant to section 751(a)(3)(A) of the Tariff Act of 1930, as amended (“the Act”), the Department shall make a final determination in an administrative review of an antidumping duty order within 120 days after the date on which the preliminary results is published. The current deadline for the final results in this review is July 6, 2004. If it is not practicable to complete the review within the foregoing time, the administering authority may extend that 120-day period to 180 days. The Department finds that it is not practicable to complete this administrative review within the original time frame due to the fact that a sales verification has been scheduled for mid-May which will set back the briefing schedule in this case until sometime after the issuance of the verification report. Thus, the Department is fully extending the time limit for completion of the final results until September 7, 2004, which is 183¹ days after the date on which notice of the preliminary results was published in the Federal Register.

¹ Since the extended due date falls on Saturday, September 4, 2004 (180 days), the final results are due on the next business day, September 7, 2004.

Dated: April 28, 2004.
Jeffrey May,
Deputy Assistant Secretary for Import Administration.

[FR Doc. 04-10233 Filed 5-4-04; 8:45 am]

BILLING CODE 3510-DS-P